DEPARTMENT OF HEALTH AND HUMAN SERVICES

Centers for Disease Control and Prevention

[30Day-10-0735]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

CDC Web site and Communication Channels Usability Evaluation, (OMB no. 0925-0735, exp. 3/31/2010)—Revision—National Center for Health Marketing (NCHM), Centers for Disease Control and Prevention, (CDC).

Background and Brief Description

Executive Order 12862 directs Federal agencies that provide significant services directly to the public to survey customers to determine the kind and quality of services they need and their level of satisfaction with existing services. The Centers for Disease Control and Prevention (CDC) seeks approval to conduct usability surveys on CDC Web sites, social media, mobile-based or other electronic communication channels hosting CDC content on an ongoing basis.

It is important for CDC to ensure that health information, interventions, and programs at CDC are based on sound science, objectivity, and continuous customer input. The CDC Web sites, social media, mobile-based or other electronic communication channels hosting CDC content must be designed to be easy to use, easy to access, and effective providers of health information and resources to our target audiences.

CDC is requesting renewal of our existing 3-year generic clearance, with revisions, in order to carry out its mission. Generic clearance is needed to ensure that CDC can continuously improve its Web sites, social media, mobile-based or other electronic communication channels hosting CDC content though regular surveys developed from these pre-defined questions.

Surveying the CDC Web site, social media, mobile-based or other electronic communication channels hosting CDC content on a regular, ongoing basis will help ensure that users have an effective, efficient, and satisfying experience on any of our Web sites or communication channels, maximizing the health impact of the information and resulting in optimum benefit for public health. The surveys will ensure that all CDC Web sites and electronic communication channels meet customer and partner priorities, build CDC's brand, and contribute to CDC health impact goals.

There is no cost to respondents other than their time. The total estimated annualized burden hours are 41,500.

Estimated Annualized Burden Hours
Survey type | Number of respondents | Number of responses per respondent | Average burden per response (hrs.)
In Person Surveys | 8,000 | 1 | 1
Remote Surveys | 67,000 | 1 | 30/60

Dated: February 18, 2010.
Maryam I. Daneshvar,
Acting Reports Clearance Officer, Centers for Disease Control and Prevention.

[FR Doc. 2010-3824 Filed 2-24-10; 8:45 am]

BILLING CODE 4163-18-P